NUCLEAR REGULATORY COMMISSION

[Docket Nos. 50-445 and 50-446]

TXU Generation Company, LP; Notice of Withdrawal of Application for Amendments to Facility Operating Licenses

The U.S. Nuclear Regulatory Commission (the Commission) has granted the request of TXU Generation Company, LP (the licensee) to withdraw its August 5, 2004, application for proposed amendment to Facility Operating License No. NPF-87 and Facility Operating License No. NPF-89 for Comanche Peak Steam Electric Station, Units 1 and 2, respectively, located in Somervell County, Texas.

The proposed amendments would have revised the facility Technical Specifications (TSs) pertaining to control room emergency filtration/pressurization system (CREFS). The revised TSs would have added a new condition for an inoperable control room boundary with an opening (breach) into the cable spreading room, for an extended period of time (greater than current 24 hours).

The Commission had previously issued a Notice of Consideration of Issuance of Amendment published in the Federal Register on August 31, 2004 (69 FR 55114). However, by letter dated May 18, 2005, the licensee withdrew the proposed change.

For further details with respect to this action, see the application for amendment dated August 5, 2004, and the licensee's letter dated May 18, 2005, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209 or (301) 415-4737 or by e-mail to pdr@nrc.gov.

Dated at Rockville, Maryland, this 9th day of June 2005.
For the Nuclear Regulatory Commission.
Mohan C. Thadani,
Senior Project Manager, Section 1, Project Directorate IV, Division of Licensing Project Management, Office of Nuclear Reactor Regulation.

[FR Doc. E5-3134 Filed 6-16-05; 8:45 am]

BILLING CODE 7590-01-P